DEPARTMENT OF TRANSPORTATION

Pipeline and Hazardous Materials Safety Administration

Hazardous Materials: Notice of Applications for Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before March 27, 2019.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on February 28, 2019.
Donald P. Burger,
Chief, General Approvals and Permits Branch.

Application No. | Applicant | Regulation(s) affected | Nature of the special permits thereof
SPECIAL PERMITS DATA
5022-M | DEPARTMENT OF DEFENSE (MILITARY SURFACE DEPLOYMENT & DISTRIBUTION COMMAND) | 174.84, 174.101(l), 174.112(a), 176.116(e), 176.138(b), 177.834(l)(1) | To modify the special permit to ensure safe testing of all size fuel tanks. (modes 1, 2, 3).
10232-M | ITW SEXTON INC | 173.304(d), 173.306(j), 173.167 | To modify the special permit to authorize the use of a different proper shipping name for an existing hazmat. (modes 1, 2, 3, 4, 5).
10922-M | FIBA TECHNOLOGIES, INC | 173.302(a), 180.205, 180.207(d)(1), 172.302(c) | To modify the special permit to authorize non-DOT cylinders to be requalified using ultrasonic examination. (modes 1, 2, 3, 4, 5).
14453-M | FIBA TECHNOLOGIES, INC | 180.209(a), 180.209(b), 180.209(b)(1)(iv) | To modify the special permit to authorize non-DOT cylinders manufactured under special permit to be requalified every ten years using 100% ultrasonic examination. (modes 1, 2, 3, 4).
16061-M | BATTERY SOLUTIONS, LLC | 172.200, 172.300, 172.400, 173.185(c)(1)(iii), 173.185(c)(1)(iv), 173.185(c)(1)(v), 173.185(c)(3) | To modify the special permit to authorize additional Class 8 and 9 hazmat, to remove the UN packaging code from the permit, to clarify the term operator and to increase the maximum gross mass of CellBlockEX material per package to 400kg. (modes 1, 3).
20251-M | SALCO PRODUCTS INC | 172.203(a), 178.345-1, 180.413 | To modify the special permit to authorize a new manway cover design. (mode 1).
20651-M | ATIEVA USA, INC | 172.101(j) | To modify the special permit to authorize additional packaging. (mode 4).

[FR Doc. 2019-04453 Filed 3-11-19; 8:45 am]

BILLING CODE 4909-60-P